DEPARTMENT OF THE INTERIOR

National Park Service

Supplement to the Environmental Impact Statement for the General Management Plan, Organ Pipe Cactus National Monument

AGENCY: National Park Service, Department of the Interior.

ACTION: Availability of Draft Supplemental Environmental Impact Statement (DSEIS) for re-analysis of Cumulative Impacts on the Sonoran Pronghorn, Organ Pipe Cactus National Monument, Arizona.

SUMMARY: Pursuant to section 102(2)(c) the National Environmental Policy Act of 1969, the National Park Service announces the availability of a DSEIS for Cumulative Impacts on the Sonoran Pronghorn, Organ Pipe Cactus National Monument, Arizona.

DATES: The DSEIS will remain available for public review for 45 days from the publication of this notice. If any public meetings are held concerning the DSEIS, they will be announced at a later date.

COMMENTS: If you wish to comment, you may submit your comments by any one of several methods. You may mail comments to Superintendent, Organ Pipe Cactus National Monument, 10 Organ Pipe Drive, Ajo, AZ 85321. Please also include: “Ref: Supplemental EIS, Sonoran Pronghorn”.

You may also comment via the Internet to Laurie Domler@nps.gov. Please submit Internet comments as an ASCII file avoiding the use of special characters and any form of encryption. Please also include “Ref: Supplemental EIS, Sonoran Pronghorn”. Please include your name and return address in your Internet message. Finally, you may hand-deliver comments to Organ Pipe Cactus National Park, Headquarters, 10 Organ Pipe Drive, Ajo AZ 85321. Our practice is to make comments, including names and home addresses of respondents available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses available for public inspection in their entirety.

ADDRESSES: Copies of the DSEIS for re-analysis of Cumulative Impacts on the Sonoran Pronghorn are available from the Superintendent, Organ Pipe Cactus National Monument, 10 Organ Pipe Drive, Ajo, AZ 85321. Public reading copies of the DSEIS will be available for review at the following locations:

Office of the Superintendent, Organ Pipe Cactus National Monument, 10 Organ Pipe Drive, Ajo, AZ 85321, Telephone: (520) 387-7661

Planning and Environmental Quality, Intermountain Support Office—Denver, National Park Service, 12795 W. Alameda Pkwy., Denver, CO 80225-0287, Telephone: (303) 969-2036

Office of Public Affairs, National Park Service, Department of Interior, 18th and C Streets NW., Washington, DC 20240, Telephone: (202) 208-6843

SUPPLEMENTARY INFORMATION: The Organ Pipe Cactus National Monument Final General Management Plan/Development Concept Plans/Environmental Impact Statement was approved in 1997. On February 12, 2001, The United States District Court for the District of Columbia (Civil Action No. 99-927) found that the EIS did not fully comply with the National Environmental Policy Act (NEPA) of 1969 because the cumulative impacts (re: Sonoran pronghorn) of all agency activities were not fully analyzed.

The major issue to be addressed in the EIS Supplement is the Sonoran Pronghorn. The pronghorn, one of five subspecies of pronghorn, has evolved in a unique desert environmental and has distinct adaptations to this environment that distinguished it from other subspecies. In 1967, the U.S. Fish and Wildlife Service (USFWS) designated the Sonoran Pronghorn as endangered. The most recent estimates indicate that approximately 100 pronghorn exist in the United States today. The only habitat in which Sonoran pronghorn currently remain in the United States is federally-owned land in Southwest Arizona. The court order declared that the USFWS issued Biological Opinions that failed to address the impacts of the National Park Service and other surrounding federal agencies current and planning activities on the pronghorn in an “environmental baseline”. The court order also declared that the National Park Service issued an environmental impact statement that failed to address the cumulative impacts of their activities on the pronghorn, when added to other past, present, and reasonable foreseeable future actions, regardless of what agency undertake those actions.

Pursuant to the court order, the National Park Service, through a supplement to the GMP/EIS, will address all cumulative impacts of actions on the Sonoran Pronghorn that were not fully considered at the time of its GMP, regardless of what agency undertakes those actions. The National Park Service is not proposing to add, change, or delete any alternatives or impacts of alternatives that were presented in either the Draft General Management Plan/Development Concept Plan/Environmental Impact Statement or the Supplement to the Draft General Management Plan/Development Concept Plans/Environmental Impact Statement. Alternatives addressed will be (1) Existing Conditions/No Action Alternative (2) New Proposed Action Alternative.

FOR FURTHER INFORMATION CONTACT: Superintendent, Organ Pipe Cactus National Park at the above address and telephone number.

Dated: June 28, 2001.
William Ladd,
Director, Intermountain Region, National Park Service.

[FR Doc. 01-28139 Filed 11-9-01; 8:45 am]

BILLING CODE 4310-70-M